DEPARTMENT OF THE INTERIOR

Bureau of Land Management

[LLNMA01400.L17110000.PN0000]

Notice of Temporary Order Restricting Dogs From Public Lands in the Kasha-Katuwe Tent Rocks National Monument in Sandoval County, NM

AGENCY: Bureau of Land Management, Interior.

ACTION: Notice of temporary restriction order.

SUMMARY: Notice is hereby given that a Temporary Order is in effect authorizing the exclusion of dogs from public lands within the 5,610-acre Kasha-Katuwe Tent Rocks National Monument. This order will enhance the safety and quality of the visitor experience for 97 percent of the Monument's visitors.

DATES: This closure became effective on May 23, 2009, following completion of an Environmental Assessment for the Temporary Order and signing of the Record of Decision on May 22, 2009. The closure will remain in effect for 2 years, during which time the BLM will, through public involvement, develop a long-term management resolution of the safety issue in this area.

FOR FURTHER INFORMATION CONTACT: Thomas E. Gow, Field Manager, Rio Puerco Field Office, 435 Montaño NE., Albuquerque, New Mexico 87107-4935; or call (505) 761-8797; or e-mail Tom_Gow@blm.gov.

SUPPLEMENTARY INFORMATION: 1. The entry of persons with dogs is prohibited on public land in New Mexico Prime Meridian, T. 16 N., R. 5 E., and T. 17 N., R 5 E.,

2. This closure does not affect the ability of local, State, or Federal officials in the performance of their duties in the area, including the use of K-9 units in the performance of their official duties.

3. This notice was posted at the entrance booth to the National Monument and at the trailhead kiosk. The notice was also posted on the BLM-New Mexico Web site and on related New Mexico tourism/travel Web sites.

4. The following persons are exempt from this closure order:

a. Federal, State, or local law enforcement officers, while acting within the scope of their official duties;

b. Any person in the operation of a valid livestock grazing permit for the area in the conduct of activities addressed in the permit; and

c. Any person using or training a service dog for the visually impaired or other assisted needs, law enforcement, and grazing related working dogs.

Violations of these closures and restrictions are punishable by fines not to exceed $1,000 and/or imprisonment not to exceed 1 year. These actions are taken to protect public health and safety.

5. An Environmental Assessment for the Temporary Order, called Emergency Dog Closure, Kasha-Katuwe Tent Rocks National Monument, DOI-BLM-NM-A010-2009-22-EA, was completed with the signing of a Decision Record dated May 22, 2009.

Copies of this closure order and maps showing the location of the routes are available from the Rio Puerco Field Office, 435 Montaño N.E., Albuquerque, New Mexico 87107-4935.

Authority: 43 CFR 8364.1, Closure and Restriction Orders.

Edwin J. Singleton,
District Manager, Albuquerque.

[FR Doc. 2010-11615 Filed 5-13-10; 8:45 am]

BILLING CODE 4310-FB-P